DEPARTMENT OF ENERGY

Federal Energy Regulatory Commission

Notice of Filings

August 14, 2006.

Take notice that the Commission received the following electric corporate filings:

Docket Numbers: EC06-151-000.

Applicants: Northern New England Energy Corp.

Description: Green Mountain Power Corp et al. submits an application for a merger and associated disposition of Commission-jurisdictional facilities pursuant to section 203 of the Federal Power Act.

Filed Date: 08/09/2006.

Accession Number: 20060811-0151.

Comment Date: 5 p.m. Eastern Time on Wednesday, August 30, 2006.

Take notice that the Commission received the following electric rate filings:

Docket Numbers: ER03-1088-002.

Applicants: Direct Energy Marketing Inc.

Description: Direct Energy Marketing, Inc submits its Triennial Updated Market Analysis, in compliance with FERC's 8/13/03 Order.

Filed Date: 08/10/2006.

Accession Number: 20060811-0222.

Comment Date: 5 p.m. Eastern Time on Thursday, August 31, 2006.

Docket Numbers: ER04-445-018; ER04-435-021; ER04-441-013; ER04-443-014.

Applicants: California Independent System Operator Corporation, Pacific Gas and Electric Company, San Diego Gas & Electric Company, and Southern California Edison Company.

Description: The California Independent System Operator Corp submits their filing in compliance with FERC's 7/12/06 Order.

Filed Date: 08/10/2006.

Accession Number: 20060811-0225.

Comment Date: 5 p.m. Eastern Time on Thursday, August 31, 2006.

Docket Numbers: ER06-700-003.

Applicants: California Independent System Operator Corporation.

Description: California Independent System Operator Corp submits an errata to its Supplemental Compliance Filing submitted on 8/9/06 to modify the ISO tariff.

Filed Date: 08/10/2006.

Accession Number: 20060811-0221.

Comment Date: 5 p.m. Eastern Time on Thursday, August 31, 2006.

Docket Numbers: ER06-1005-000.

Applicants: Avista Corporation.

Description: Avista Corporation dba Avista Utilities in response to FERC's correspondence on 7/13/06 withdrawing their 5/17/06 filing of a Service Agreement with Morgan Stanley Capital Group, Inc.

Filed Date: 08/09/2006.

Accession Number: 20060811-0162.

Comment Date: 5 p.m. Eastern Time on Wednesday, August 30, 2006.

Docket Numbers: ER06-1347-000.

Applicants: American Electric Power Services Corp.

Description: Indiana and Michigan Power Co submits an Original Interconnection and Local Delivery Service Agreement with the Town of Warren, Indiana.

Filed Date: 08/09/2006.

Accession Number: 20060810-0055.

Comment Date: 5 p.m. Eastern Time on Wednesday, August 30, 2006.

Docket Numbers: ER06-1348-000.

Applicants: Katmai Energy, LLC.

Description: Katmai Energy, LLC's petition for acceptance of initial rate schedule, FERC Electric Rate Schedule 1, granting certain blanket approvals, waiver and blanket authority.

Filed Date: 08/09/2006.

Accession Number: 20060811-0192.

Comment Date: 5 p.m. Eastern Time on Wednesday, August 30, 2006.

Docket Numbers: ER06-1349-000.

Applicants: Southwest Power Pool, Inc.

Description: Southwest Power Pool, Inc submits seven Executed Service Agreements for Firm Point-to-Point Transmission Service with Kansas Municipal Energy Agency.

Filed Date: 08/09/2006.

Accession Number: 20060811-0191.

Comment Date: 5 p.m. Eastern Time on Wednesday, August 30, 2006.

Docket Numbers: ER06-1350-000.

Applicants: Public Service Company of New Mexico.

Description: Public Service Company of New Mexico submits its First Revised FERC Electric Rate Schedule No. 86.

Filed Date: 08/10/2006.

Accession Number: 20060811-0194.

Comment Date: 5 p.m. Eastern Time on Thursday, August 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-13629 Filed 8-17-06; 8:45 am]

BILLING CODE 6717-01-P